DEPARTMENT OF LABOR

Office of the Secretary

Agency Information Collection Activities; Submission for OMB Review; Comment Request; H-2A Sheepherder Recordkeeping Requirement

ACTION: Notice of availability; request for comments.

SUMMARY: The Department of Labor (DOL or Department) is submitting the Employment and Training Administration (ETA) sponsored information collection request (ICR) titled, “H-2A Sheepherder Recordkeeping Requirement,” to the Office of Management and Budget (OMB) for review and approval for continued use, without change, in accordance with the Paperwork Reduction Act (PRA) of 1995. Public comments on the ICR are invited.

DATES: OMB will consider all written comments that the agency receives on or before January 2, 2019.

ADDRESSES: A copy of this ICR with applicable supporting documentation; including a description of the likely respondents, proposed frequency of response, and estimated total burden may be obtained free of charge from the RegInfo.gov website at http://www.reginfo.gov/public/do/PRAViewICR?ref_nbr=201811-1205-002 (this link will only become active on the day following publication of this notice) or by contacting Michel Smyth by telephone at 202-693-4129, TTY 202-693-8064, (these are not toll-free numbers) or sending an email to DOL_PRA_PUBLIC@dol.gov.

Submit comments about this request by mail to the Office of Information and Regulatory Affairs, Attn: OMB Desk Officer for DOL-ETA, Office of Management and Budget, Room 10235, 725 17th Street NW, Washington, DC 20503; by Fax: 202-395-5806 (this is not a toll-free number); or by email: OIRA_submission@omb.eop.gov. Commenters are encouraged, but not required, to send a courtesy copy of any comments by mail or courier to the U.S. Department of Labor—OASAM, Office of the Chief Information Officer, Attn: Departmental Information Compliance Management Program, Room N1301, 200 Constitution Avenue NW, Washington, DC 20210; or by email: DOL_PRA_PUBLIC@dol.gov.

FOR FURTHER INFORMATION CONTACT: Michel Smyth by telephone at 202-693-4129, TTY 202-693-8064, (these are not toll-free numbers) or sending an email to DOL_PRA_PUBLIC@dol.gov.

SUPPLEMENTARY INFORMATION: This ICR seeks to extend PRA authority for the H-2A Sheepherder Recordkeeping Requirement information collection. Under the foreign labor certification programs administered by ETA, the H-2A temporary labor certification program enables employers to bring nonimmigrant foreign workers to the U.S. to perform agricultural work of a temporary or seasonal nature as defined in 8 U.S.C. 1101(a)(15)(H)(ii)(a). The H-2A program also permits employers to employ foreign sheepherders and goatherders and those working in open-range production of livestock.

In order to meet its statutory responsibilities under the Immigration and Nationality Act, the Department must request information from employers seeking to hire and import foreign labor. The Department uses the information collected to determine whether employers engaging in sheep herding, goat herding, or open-range production of livestock have met their obligations under Federal law. This ICR pertains to program obligations for employers seeking to hire foreign temporary agricultural workers for job opportunities in herding or production of livestock on the open range. Among the issues addressed through this ICR are timekeeping requirements of employers. In order to determine eligibility for the program based on the amount of work performed on the range, this ICR requires employers to note whether employees spend days on the ranch or on the range. This ICR also requires employers to record the reason for the worker's absence where the employer chooses to prorate the required wage.

This information collection is subject to the PRA. A Federal agency generally cannot conduct or sponsor a collection of information, and the public is generally not required to respond to an information collection, unless it is approved by OMB under the PRA and displays a currently valid OMB Control Number. In addition, notwithstanding any other provisions of law, no person shall generally be subject to penalty for failing to comply with a collection of information that does not display a valid Control Number. See 5 CFR 1320.5(a) and 1320.6. DOL obtains OMB approval for this information collection under Control Number 1205-0519. The current approval is scheduled to expire on November 30, 2018; however, DOL notes that existing information collection requirements submitted to OMB receive a month-to-month extension while they undergo review. New requirements would only take effect upon OMB approval. For additional substantive information about this ICR, see the related notice published in the Federal Register on August 23, 2018 (83 FR 42697).

Interested parties are encouraged to send comments to the OMB, Office of Information and Regulatory Affairs at the address shown in the ADDRESSES section within thirty (30) days of publication of this notice in the Federal Register. In order to help ensure appropriate consideration, comments should mention OMB Control Number 1205-0519. OMB is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL-ETA.

Title of Collection: H-2A Sheepherder Recordkeeping Requirement.

OMB Control Number: 1205-0519.

Affected Public: Private Sector—Farms.

Total Estimated Number of Respondents: 654.

Total Estimated Number of Responses: 34,008.

Total Estimated Annual Time Burden: 3,401 hours.

Total Estimated Annual Other Costs Burden: $0.

Authority: 44 U.S.C. 3507(a)(1)(D).

Dated: November 26, 2018.
Michel Smyth,
Departmental Clearance Officer.

[FR Doc. 2018-26110 Filed 11-30-18; 8:45 am]

BILLING CODE 4510-FP-P